DEPARTMENT OF JUSTICE

Drug Enforcement Administration

Manufacturer of Controlled Substances; Notice of Application

Pursuant to 21 CFR 1301.33(a), this is notice that on May 25, 2004, Cambrex North Brunswick Inc., Technology Centre of New Jersey, 661 Highway One, North Brunswick, New Jersey 08902, made application by renewal and on June 11, 2004 by letter to the Drug Enforcement Administration (DEA) for registration as a bulk manufacturer of the basic classes of controlled substances listed:

Drug | Schedule
N-Ethylamphetamine (1475) | I
Tetrahydrocannabinols (7370) | I
2,5-Dimethoxyamphetamine (7396) | I
3,4-Methylenedioxyamphetamine (7400) | I
4-Methoxyamphetamine (7411) | I
Amphetamine (1100) | II
Methamphetamine (1105) | II
Methylphenidate (1724) | II
Codeine (9050) | II
Hydromorphone (9150) | II
Hydrocodone (9193) | II
Methadone (9250) | II
Methadone Intermediate (9254) | II
Morphine (9300) | II
Sufentanil (9740) | II
Fentanyl (9801) | II

The company plans to manufacture the listed controlled substances in bulk for distribution to its customers.

Any other such applicant and any person who is presently registered with DEA to manufacture such a substance may file comments or objections to the issuance of the proposed registration pursuant to 21 CFR 1301.33(a).

Any such comments or objections may be addressed, in quintuplicate, to the Deputy Assistant Administrator, Office of Diversion Control, Drug Enforcement Administration, United States Department of Justice, Washington, DC 20537, Attention: DEA Federal Register Representative (ODLR) and must be filed no later than December 28, 2004.

Dated: October 1, 2004.
William J. Walker,
Deputy Assistant Administrator, Office of Diversion Control, Drug Enforcement Administration.

[FR Doc. 04-24154 Filed 10-28-04; 8:45 am]

BILLING CODE 4410-09-P